NATIONAL FOUNDATION ON THE ARTS AND THE HUMANITIES

Announcement of Chronicling America: Historic American Newspapers Data Challenge

AGENCY: National Endowment for the Humanities.

ACTION: Notice.

SUMMARY: The National Endowment for the Humanities (NEH) announces the Chronicling America: Historic American Newspapers Data Challenge under Section 105 of the America COMPETES Reauthorization Act of 2010 (Pub. L. 111-358). This challenge encourages the creation of web-based tools, data visualizations, and other creative uses of the information found in the Chronicling America historic newspaper database.

DATES: Competition begins on October 28, 2015, and ends June 15, 2016. NEH will announce a winner on or about July 15, 2016, unless it extends the term of the competition as provided in this notice.

FOR FURTHER INFORMATION CONTACT: Leah Weinryb Grohsgal, Senior Program Officer and NDNP Program Coordinator, Division of Preservation and Access, National Endowment for the Humanities, (202) 606-8577, or lgrohsgal@neh.gov.

SUPPLEMENTARY INFORMATION:

Subject of the Competition

How can you use open data to explore history? NEH invites members of the public to produce creative web-based projects demonstrating the potential for using the data found in the Chronicling America Web site, available at http://chroniclingamerica.loc.gov. Chronicling America is a Web site providing access to digitized U.S. newspapers and to information about historic newspapers. The National Digital Newspaper Program (NDNP), a joint effort between NEH and the Library of Congress, produces the site. Visit the Chronicling America Web site at http://chroniclingamerica.loc.gov. For more about the humanities, visit the NEH Web site at www.neh.gov.

What are we looking for? NEH encourages contestants to develop data visualizations, web-based tools, or other innovative and interesting web-based projects using the open data found in Chronicling America. There are over ten million pages of digitized newspapers in Chronicling America, published between 1836 and 1922, from towns and cities across the United States. The newspapers illuminate 19th and 20th century American life, with stories about politics, sports, shopping, music, food, health, science, movies, and everything in between. Entries should uncover trends, display insights, explore a theme, or tell a story.

For example, entries using the Chronicling America newspaper data could:

—Show how local news in various places covered the World Series of baseball

—Trace the developing motion picture industry across the country

—Follow the enactment of amendments to the Constitution

—Show coverage of a historic political campaign in various locations

—Map the travels of a president across the country based on local news coverage

—Show changes in advertising logos or newspaper mastheads over time

—Track the price or adoption of consumer goods over time in different locations

—Explore tourism in different locations in the United States

—Discover how various regions of the country celebrated Thanksgiving at different times

Projects could also create data mashups that juxtapose Chronicling America data with other datasets or translate newspapers into different languages.

The Library of Congress has developed a user-friendly Application Program Interface (API), which can be used to explore the data contained in Chronicling America in many ways. You can learn more about the API at http://chroniclingamerica.loc.gov/about/api. Entrants must use this API to access the data, but are welcome to use existing software or tools to create their projects.

Rules for Participating in the Competition

1. Eligibility. To be eligible to enter this competition, you—

(a) Must register to participate in the competition under the Official Rules promulgated by NEH on https://www.challenge.gov/challenge/chronicling-america-historic-american-newspapers-data-challenge/;

(b) Must comply with all the requirements under this notice and the America COMPETES Act of 2010 (Pub. L. 111-358);

(c) Must either, (1) in the case of an individual or group of individuals, be citizens or permanent residents of the United States, or (2) in the case of an entity, be a non-profit incorporated in and maintaining a primary place of business in the United States and be tax-exempt under the Internal Revenue Code;

(d) Must have the permission of a parent or legal guardian to participate if you are under 18 years of age;

(e) May not be a federal entity or federal employee acting within the scope of your employment; and

(f) May not be an employee of NEH or an immediate family member (spouse, parents or step-parents, siblings and step-siblings, children and step-children, and household members).

2. If you are a federal grantee, you may not use federal funds to develop America COMPETES Act competition applications unless such use is consistent with the purpose of your grant award. If the project has received previous NEH or other federal funding, the summary should describe how this entry represents a new contribution or facet of the project.

3. If you are a federal contractor, you may not use federal funds from a contract to develop or fund efforts in support of America COMPETES Act competition applications.

4. You may not use federal facilities or consult with federal employees during the competition unless the facilities and employees are made available to all contestants participating in the competition on an equitable basis.

5. NEH will accept submissions from single individuals, entities, or groups of individuals. You may submit multiple entries, but you (or your group) will be eligible to win only one prize.

6. Using the API, contestants must create a web-based tool, data visualization, or any other web-based project that displays an interesting and innovative use of the data contained in Chronicling America. Contestants will need to host the Web sites they develop. All entries must be compatible with Internet Explorer 10 and above, Google Chrome, or Mozilla Firefox and contestants must provide any passwords or instructions required to gain access.

7. Insurance.

(a) By participating in this competition, you agree to assume any and all risks and waive claims against the Federal Government and its related entities, except in the case of willful misconduct, for any injury, death, damage, or loss of property, revenue, or profits, whether direct, indirect, or consequential, arising from participation in this competition, whether the injury, death, damage, or loss arises through negligence or otherwise. Provided, however, that you are not required to waive claims against NEH arising out of the unauthorized use of or disclosure by NEH of your intellectual property, trade secrets, or confidential business information.

(b) By participating in this competition, you agree to indemnify the Federal Government against third-party claims for damages arising from or related to competition activities.

(c) Based on the subject matter of the competition, the type of work that it will possibly require, and an analysis of the likelihood of any claims for death, bodily injury, or property damage, or loss potentially resulting from participation, NEH does not require you to obtain liability insurance or demonstrate financial responsibility in order to participate in this competition.

8. Intellectual Property.

(a) By submitting an entry to the competition, you represent and warrant that you are the sole author and owner of the submitted entry. Entries must be your original work, and must not violate or infringe the rights of other parties, including, but not limited to, privacy, publicity, or intellectual property rights, or material that constitutes copyright or license infringement. Your entry may not contain any material that is inappropriate, indecent, obscene, hateful, defamatory, or in any way disparaging. Your entry cannot have been submitted previously in another promotion or contest of any kind.

(b) You understand and agree that if your entry is selected as a winner, NEH may modify or alter it, in its sole discretion, as deemed appropriate or necessary. The winning contestant will, in consideration of the prize to be awarded, grant to NEH and the Library of Congress an irrevocable, royalty-free, exclusive worldwide license to reproduce, distribute, copy, display, create derivative works, and publicly post, link to, and share, the winning design or parts thereof, for the purpose of the competition and for any official NEH or Library of Congress purpose.

9. NEH reserves the right, at its sole discretion, to cancel, suspend, and/or modify the competition for any reason, which includes the right to decline to select winning entries if NEH determines that no submission satisfactorily meets the selection criteria.

10. By participating in this competition, you are providing your full and unconditional agreement to abide by the rules set forth in this notice, and by the Chronicling America: Historic American Newspapers Data Challenge Official Rules found at https://www.challenge.gov/challenge/chronicling-america-historic-american-newspapers-data-challenge/.

Process for Contestants To Register for the Competition

NEH will accept submissions only through challenge.gov.

1. Create an account on https://www.challenge.gov/challenge/chronicling-america-historic-american-newspapers-data-challenge/ or log in with an existing ChallengePost account.

2. On https://www.challenge.gov/challenge/chronicling-america-historic-american-newspapers-data-challenge/, click “Accept this challenge” to register your interest in participating. This step ensures that you will receive important competition updates.

3. After you sign up on https://www.challenge.gov/challenge/chronicling-america-historic-american-newspapers-data-challenge/, the Web site will send a confirmation email to the email address you provided. Use the confirmation email to verify your email address. As a registered contestant, you will then be able to enter the competition by submitting an application that conforms to the requirements set forth herein.

4. Confirm that you have read and agreed to the Official Rules. Submit a descriptive summary of the entry of 1,000 words or less and a working URL with clear instructions for accessing the entry. Submit entries to https://www.challenge.gov/challenge/chronicling-america-historic-american-newspapers-data-challenge/, between October 28, 2015, at 9:00 a.m. EDT and June 15, 2016, at 5:00 p.m. EDT.

Amount of the Prize

NEH will award winning entries $5,000 for First Prize, $3,000 for Second Prize, and $2,000 for Third Prize. NEH may award up to three separate K-12 Student Prizes of $1,000 each. In addition to cash prizes, NEH will invite the winners of the competition to NEH in Washington, DC, to present their work at the National Digital Newspaper Program Annual Meeting and to be honored at the Chronicling America reception given by NEH in September, 2016. NEH will reimburse winners up to $1,500 for authorized travel expenses. For winning team entries, NEH will reimburse travel expenses for only one person from the team. This person will be the contact person listed on the entry form. If this person is not available, he or she must designate a replacement from the team. Only persons listed on the original entry form may have their travel expenses reimbursed by NEH. All other persons accompanying the winner/team representative must arrange and fund their own travel and accommodations. Awards and travel expense reimbursements may be subject to federal income taxes, and NEH will comply with the Internal Revenue Service withholding and reporting requirements, where applicable.

Basis Upon Which Winner Will Be Selected

NEH staff will review entries, and will send the top submissions to a panel of expert judges. NEH will select a judging panel consisting of three outside experts, chosen for their achievements in the humanities and digital humanities. Judges will be fair and impartial. A judge may not have a familial or financial relationship with an individual who is a registered contestant in the competition. Judges will fully comply with all applicable government ethics requirements for federal employees.

NEH staff and judges will use the following criteria to judge the submitted entries:

1. Strong humanities content. Entries must address a subject or idea in the humanities. NEH interprets the humanities broadly, including history, language, linguistics, literature, jurisprudence, philosophy, archaeology, comparative religion, ethics, art history, and the humanistic social sciences.

2. Impact and use of data. NEH will judge entries on creative selection of data, exploration of questions in the humanities for which big data provides insight, and/or innovative techniques for data use. Entries should uncover trends, display insights, explore a theme, or tell a story.

3. Originality. While entrants are welcome to use existing software or tools, as well as other datasets, to create their projects, NEH will judge entries on originality, meaning the novelty of approach using data to address a humanities theme.

4. User appeal and clarity. Because NEH and the Library of Congress will promote winning entries to showcase the many uses for Chronicling America data, projects should be easily understood by a general public audience.

The judging panel will judge the submissions to advise representatives of NEH, who will choose the final winning entries. All judging will take place between on or about June 15, 2016, and on or about July 15, 2016. For questions or further information, please see the contact information listed above.

Authority: 15 U.S.C. 3719.

Dated: October 23, 2015.
Margaret F. Plympton,
Deputy Chair.

[FR Doc. 2015-27445 Filed 10-27-15; 8:45 am]

BILLING CODE 7536-01-P